DEPARTMENT OF THE INTERIOR

National Park Service

[NPS-WASO-NAGPRA-NPS0039466; PPWOCRADN0-PCU00RP14.R50000]

Notice of Inventory Completion: The Alfred W. Bowers Laboratory of Anthropology, The University of Idaho, Moscow, ID

AGENCY: National Park Service, Interior.

ACTION: Notice.

SUMMARY: In accordance with the Native American Graves Protection and Repatriation Act (NAGPRA), the Alfred W. Bowers Laboratory of Anthropology, The University of Idaho has completed an inventory of human remains and has determined that there is a cultural affiliation between the human remains and Indian Tribes or Native Hawaiian organizations in this notice.

DATES: Repatriation of the human remains in this notice may occur on or after April 17, 2025.

ADDRESSES: Emily Hull, Alfred W. Bowers Laboratory of Anthropology, The University of Idaho, 875 Perimeter Drive MS 4023, Moscow, ID 83844-4023, telephone (509) 336-5868, email emilyhull@uidaho.edu.

SUPPLEMENTARY INFORMATION: This notice is published as part of the National Park Service's administrative responsibilities under NAGPRA. The determinations in this notice are the sole responsibility of the Alfred W. Bowers Laboratory of Anthropology, The University of Idaho, and additional information on the determinations in this notice, including the results of consultation, can be found in its inventory or related records. The National Park Service is not responsible for the determinations in this notice.

Abstract of Information Available

A number of ancestral remains from California were found at the University of Idaho in 2024 associated with the archaeologist and osteologist Grover S. Krantz. Many of the remains were gathered in concert with A.B. Elsasser and Jack Smith, both of California. Krantz integrated these remains into his osteological collection at UC Berkeley. It is presumed that they were brought by Krantz to Washington State University in 1968, when he assumed a faculty position. It is unknown how or why the remains were transferred to the University of Idaho, however, there has been a historically close relationship between the two universities due to physical proximity, and other exchanges have been documented. We believe that these remains were used as part of the former Human Osteology Collection housed in the Department of Anthropology. At an unknown time, the remains were removed, given new catalogue numbers, and moved to a secure location in the Alfred W. Bowers Laboratory of Anthropology. These remains were re-discovered in 2024.

CCo-19, GSK Individual 7-8

In 1955, ancestral remains representing one individual were removed from site Ca-CCo-19 in Concord, CA. The remains were removed as part of a salvage operation when burials were disturbed by construction at the site. This site was originally known as “Read's Site” after Walter Read, the man who reported the site's location. The construction development uncovered several burials, which were reported to the UCAS by a Mr. C.K. Sapper of East Contra Costa College on 10/9/1956, and a salvage excavation was afterwards undertaken by Arnold Pilling and J. Bennyhoff. Bennyhoff's notes state that Pilling and Bennyhoff found three mortuary features and ancestral remains already extremely damaged by the construction. They report the discovery of an additional five burial sites, though no remains were taken from these burials. They noted that almost all burials were oriented facing north, with one facing NW. The associated artifacts were reported as “two small obsidian flakes, a chert flake, and two pieces of fractured deer antler.” The location of these funerary belongings is unknown. Additionally, a small pestle was found which was, according to the records, transferred to an unknown unit at University of California, Berkeley. The files were signed by A.B. Elsasser, who is noted in Grover S. Krantz's notes as a common source of human remains for his collection at UC Berkeley. (Bennyhoff's original report is available upon request; it has not been included with this report, as there are rudimentary drawings of the mortuary features and remains in the report.) As of Dec 2024, we have determined that the remains of at least one individual are attributed to CCo-19, based on Krantz's original notes and research of the site. Primary documents from Krantz are sparse and without detail, however, we believe that there is enough evidence to clearly link them to Contra Costa County and specifically with site CCo-19.

CCo-2, GSK Individual 118

These ancestral remains belong to a single individual who was exhumed at an unknown time and place but were listed as given to Grover Krantz by A.B. Elsasser on July 20, 1961, in Contra Costa County, with the site listed as CCo-2. The notes by Krantz and Elsasser list the individual as “Male Amerind,” but there are no other details of his identity, provenance, or circumstances. Like the previously listed ancestors, these remains are assumed to have been brought by Krantz to Washington State University in 1968, and then, at an unknown time, were moved to the University of Idaho. They were found in the same box as the remains from CCo-19 in October of 2024. The ancestral remains are now housed in a secure area accessible only to the collections manager. As the site is listed in Contra Costa County, we believe that this is enough evidence to link this individual to this geographical location.

Alameda County

GSK Individual 10

In Spring of 1955, ancestral remains representing a minimum of one individual were found by a Berkeley, CA coroner. The coroner, whose name is unknown, found the remains in his office upon the assumption of his position. The remains were transferred to A.B. Elsasser and then to G. S. Krantz, who moved these remains to Washington State University in 1968. At an unknown time, these ancestral remains were transferred to the University of Idaho. They were re-discovered during an inventory performed by the collections manager of the Alfred W. Bowers Laboratory of Anthropology at the University of Idaho in 2024. The notes of G.S. Krantz provide evidence that these ancestral remains were initially gathered in Berkeley, CA by Elsasser. We believe that enough evidence exists to make a geographic connection between these remains and Alameda County, CA.

Cultural Affiliation

Based on the information available and the results of consultation, cultural affiliation is reasonably identified by the geographical location or acquisition history of the human remains described in this notice.

Determinations

The Alfred W. Bowers Laboratory of Anthropology, The University of Idaho has determined that:

• The human remains described in this notice represent the physical remains of three individuals of Native American ancestry.

• There is a connection between the human remains described in this notice and the Buena Vista Rancheria of Me-Wuk Indians of California; Chicken Ranch Rancheria of Me-Wuk Indians of California; Guidiville Rancheria of California; Ione Band of Miwok Indians of California; Jackson Band of Miwuk Indians; Tule River Indian Tribe of the Tule River Reservation, California; and the Wilton Rancheria, California.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after April 17, 2025. If competing requests for repatriation are received, the Alfred W. Bowers Laboratory of Anthropology, The University of Idaho must determine the most appropriate requestor prior to repatriation. Requests for joint repatriation of the human remains are considered a single request and not competing requests. The Alfred W. Bowers Laboratory of Anthropology, The University of Idaho is responsible for sending a copy of this notice to the Indian Tribes and Native Hawaiian organizations identified in this notice.

Authority: Native American Graves Protection and Repatriation Act, 25 U.S.C. 3003, and the implementing regulations, 43 CFR 10.10.

Dated: February 4, 2025.
Melanie O'Brien,
Manager, National NAGPRA Program.

[FR Doc. 2025-04357 Filed 3-17-25; 8:45 am]

BILLING CODE 4312-52-P